DEPARTMENT OF TRANSPORTATION

Federal Aviation Administration

14 CFR Parts 91, 121, 125 & 135

[Docket No. FAA-2001-9483]

RIN 2120-AG43

Child Restraint Systems

AGENCY: Federal Aviation Administration (FAA), DOT.

ACTION: Advance notice of proposed rulemaking, withdrawal.

SUMMARY: The FAA is withdrawing a previously published Advance Notice of Proposed Rulemaking that sought public comment on issues about the use of child restraint systems (CRSs) in aircraft. Specifically, we sought crash performance and ease-of-use information about existing and new automotive CRSs, when used in aircraft. We also sought information about the development of any new or improved CRSs designed exclusively for aircraft use. We are withdrawing the document to pursue other options that will mitigate the risk of child injuries and fatalities in aircraft.

FOR FURTHER INFORMATION CONTACT: Nancy Lauck Claussen, Federal Aviation Administration, Flight Standards Service, Certificate Management Office, 2800 N. 44 Street, Suite 450, Phoenix, AZ 85008, telephone (602) 379-4350, e-mail nancy.l.claussen@faa.gov.

SUPPLEMENTARY INFORMATION:

Background

On February 12, 1997, the White House Commission on Aviation Safety and Security (the Commission) issued a final report that included a recommendation on CRS use during flight. The following is an excerpt from the final report:

“The FAA should revise its regulations to require that all occupants be restrained during takeoff, landing, and turbulent conditions, and that all infants and small children below the weight of 40 pounds and under the height of 40 inches be restrained in an appropriate child restraint system, such as child safety seats, appropriate to their height and weight.”

On February 18, 1998, the FAA published an Advance Notice of Proposed Rulemaking (ANPRM) to respond to the Commission's recommendation (63 FR 8324). The FAA sought public comment on issues about the use of CRSs in aircraft during all phases of flight. The ANPRM did not propose specific regulatory changes. Rather, it asked for comments, data, and analysis to help the FAA decide the best regulatory approach to ensure the safety of children who are passengers in aircraft.

The FAA has determined it is not appropriate to mandate the use of CRSs in aircraft now. We remain concerned that if we require children under 2 years old to be in an approved restraint system (which requires a passenger seat), affected operators might find it necessary to charge a fare for transporting these children. (Currently most, if not all, operators do not charge a fare for children under 2 years old who are held in an adult's lap.) In turn, for economic reasons some adults might decide to drive in automobiles to their destinations rather than fly. The FAA is concerned because automobile injury and fatality rates are higher than aircraft injury and fatality rates. As a result, there would be a net increase in transportation injuries and fatalities as families opt, for economic reasons, to drive rather than fly to their destinations.

1995 Report to Congress

In 1994 Congress required the Secretary of Transportation, by Section 522 of Public Law 103-305, to study the impact of mandating the use of CRSs for children under 2 years old on scheduled air carriers. The Secretary submitted a report of this study to Congress in 1995. The report estimated that, if a child restraint rule were imposed, approximately five infant lives would be saved aboard aircraft, and two major injuries and four minor injuries would be avoided over a 10-year period. The report also cautioned that this improvement would be offset by additional highway fatalities for airline passengers who chose to drive rather than purchase a seat for infants. Even if infant fares were only 25 percent of full fare, the report estimated that there would be diversion to cars and thus a net increase in fatalities over a 10-year period.

Industry Action

In July 1997, the air carrier industry took a positive step toward increasing infant air travel safety. At that time most major U.S. airlines introduced a general policy providing a 50 percent fare discount for domestic travel for at least one infant under 2 years old occupying a seat. Many commenters to the ANPRM noted that they have taken advantage of these infant fares.

1999 DOT Study

The concern expressed in the Report to Congress was that mandating CRSs (which require a passenger seat) could increase airline travel costs to families with infants enough to cause a significant number to travel by automobile instead of by air. This, in turn, would expose the entire family to the higher risks of automobile travel and associated highway fatalities and injuries.

The general economic principles contained in the FAA's 1995 Report to Congress are commonly accepted as valid. However, numerous critics have challenged the probable fare levels the airline industry would charge and the degree of diversion from air travel used in the report.

In May 1999, DOT completed an analysis supplementing the 1995 FAA study. This follow-on effort changed two key assumptions of FAA's report to Congress. The 1995 report assumed that passengers diverted to automobiles would continue to travel the same distance as the trip they would have taken by air. The DOT analysis took the position that a more realistic evaluation would be that distant trips would be cancelled or shorter trips would be substituted. The FAA study also analyzed the effect of any fare charged only on the average size family. The DOT study assumed that any fare charged would have a disproportionate impact on small family units and consequently those diverted to auto travel are likely to be smaller parties. For both of these reasons, the DOT analysis suggested that the exposure of diverted air passengers to highway risks would be less than that estimated in the FAA analysis. However, the DOT analysis still estimated a net increase in deaths and injuries if highway risks were considered.

Archives of Pediatrics & Adolescent Medicine Study

In a study published in the Archives of Pediatrics & Adolescent Medicine (October 2003), researchers reviewed existing data from numerous sources, including data that the FAA presented in its Report to Congress on Child Restraint Systems in 1995, regarding the effects of requiring CRS for infants and small children on commercial aircraft. The researchers reached two conclusions from this study: (1) Unless there was little or no diversion from airplanes to cars, there would be a net increase of deaths for children under 2. (2) Even with no diversion, the cost of the proposed policy per death prevented is too high and would not be an appropriate use of resources. If the additional cost per round trip were $200 per child under age 2, the cost per death prevented, ignoring car crash deaths, would be about $1.3 billion.

Discussion of Comments

The FAA received approximately 150 comments in response to its ANPRM on CRSs. The overwhelming majority of the commenters supported mandatory use of CRSs. Many of the comments were from private citizens who did not respond to the technical questions asked. The FAA specifically requested data and comments on the current practice of allowing an adult to hold a child under 2 years of age on his or her lap. ATA noted that data on the number of lap-held children are not systematically tracked by airlines but cited a 1993 Gallup organization survey conducted for them that shows 3.8 million trips were taken by children less than 2 years old. KLM offered brief comments about the levels of child travel throughout the year. Commenters did not submit data or analysis to convince the FAA that mandating the use of CRSs in aircraft would not have the unintended consequence of causing a net increase in transportation injuries and fatalities. The comments are available for viewing in the rulemaking docket set up for this project (docket no. FAA-2001-9483). To view the docket, go to http://dms.dot.gov and put in the docket number.

Continuing Efforts To Avoid Child Injury

Better CRSs

Concurrently with this withdrawal document, the FAA is amending its regulations to allow FAA-approved CRSs to be used in aircraft. Current FAA regulations allow the use of CRSs that are designed for the automobile environment. CRSs designed specifically for the aircraft environment cannot be used unless a specific exemption is issued to authorize such use. We are removing the need for air carriers to petition for an exemption to use CRSs that are approved by the FAA through a Type Certificate, Supplemental Type Certificate, or Technical Standard Order.

The FAA is aware of at least one innovative CRS that is expected to work well in the aircraft environment. This CRS, made by AMSAFE, improves lap belt performance for children between 22 and 44 pounds who would otherwise be restrained only with the lap belt. The FAA's Los Angeles Aircraft Certification Office worked with AMSAFE to issue STC No. ST01781LA on April 15, 2005, for a simple supplemental adjustable restraint. The restraint uses an additional belt/shoulder harness that goes around the seat back and attaches to the passenger lap belt, providing improved upper torso restraint. The device can be easily stowed and installed.

Education About Turbulence

As part of an initiative to prevent injuries caused by turbulence, the FAA is coordinating the dissemination of public information (to passengers and air carriers) that includes effective practices regarding the use of CRSs in turbulence. The FAA is planning on providing website information, creating a “turbulence library of electronic resources”, and publishing an Advisory Circular.

Also, the FAA has launched a new phase of an existing nationwide public education campaign to raise public awareness about the importance of using CRSs and seat belts. The campaign emphasizes that: Proper use of CRSs and seat belts may prevent injuries, especially in the event of unexpected turbulence; the FAA strongly recommends that parents use an approved CRS based on the child's weight; and the FAA strongly advises all passengers to be properly restrained at all times.

As part of the education campaign, the FAA developed a new FAA website dedicated to informing passengers about seat belt use and child safety (http://www.faa.gov/passengers/fly_children/crs/). The Web site incorporates a series of print and radio Public Service Announcements (PSA), a video PSA, tips on child safety, and a brochure targeted to parents of young children. Several of these materials exist in both English and Spanish.

In addition, we are working together with interested organizations, including airline industry representatives, injury prevention groups and corporate entities. The focus of these partnerships is to establish web links between the FAA and partners to ensure they have the latest information on safety developments and to distribute copies of the new brochure.

Petitions for Rulemaking

The FAA has received several petitions for rulemaking regarding the use of CRSs in aircraft. Because of the timing of the petitions and the issues raised, the FAA had not formally closed the petitions. The petitions were from the Aviation Consumer Action Project (Docket No. 23833), Los Angeles Area Child Passenger Safety Association (Docket No. 25984), Stuart R. Miller (Docket No. 25985), and Air Transport Association of America (Docket No. 26276). The FAA considers that this withdrawal document, along with earlier rulemakings on the subject of child restraints, responds to the petitions for rulemaking and we now consider the petitions closed.

Conclusion

The FAA withdraws the Advance Notice of Proposed Rulemaking published at 63 FR 43228 on August 12, 1998, to pursue other options that will mitigate the risk of child injuries and fatalities in aircraft. Withdrawal of the Advance Notice of Proposed Rulemaking does not preclude the FAA from issuing another notice on the subject matter in the future or commit the agency to any future course of action. Although we are not continuing rulemaking now, we strongly recommend that all children who fly, regardless of their age, use the appropriate restraint based on their size and weight.

Issued in Washington, DC, on August 18, 2005.
John M. Allen,
Acting Director, Flight Standards Service.

[FR Doc. 05-16783 Filed 8-25-05; 8:45 am]

BILLING CODE 4910-13-P